DEPARTMENT OF AGRICULTURE

Forest Service

Forest Resource Coordinating Committee

AGENCY: Office of the Secretary, USDA.

ACTION: Notice of intent to establish the Forest Resource Coordinating Committee and call for nominations.

SUMMARY: The Secretary of Agriculture intends to establish the Forest Resource Coordinating Committee (Committee) pursuant to Section 8005 of the Food, Conservation, and Energy Act of 2008 (Pub. L. 110-246) passed into law as an amendment to the Cooperative Forestry Assistance Act of 1978 on June 18, 2008. The Forest Resource Coordinating Committee is being established to coordinate non-industrial private forestry activities within the Department of Agriculture and with the private sector. As required by the Federal Advisory Committee Act, charters for Federal advisory committees must be renewed every two years. The Committee is soliciting nominations to fill eight vacancies with staggered terms up to three years. The public is invited to submit nominations for membership on the Forest Resource Coordinating Committee.

DATES: All nominations must be received in writing by January 6, 2009. Nominations must contain a completed application packet that includes the nominee's name, resume, and completed form AD-755 (Advisory Committee Membership Background Information).

ADDRESSES: Send application to James Melonas, Forest Service, USDA, Cooperative Forestry, Room 4SE, 201 14th Street, SW., Washington, DC 20024, by express mail or overnight courier service. Nominations sent via the U.S. Postal Service must be sent to the following address: U.S. Department of Agriculture, Forest Service, Cooperative Forestry, State & Private Forestry, Mail Stop 1123, 1400 Independence Avenue, SW., Washington, DC 20250-1123.

FOR FURTHER INFORMATION CONTACT: Ted Beauvais, Cooperative Forestry, State and Private Forestry, telephone (202) 205-1190, fax (202) 205-1271, e-mail: tbeauvais@fs.fed.us, or James Melonas, Cooperative Forestry, State and Private Forestry, telephone (202) 205-1382, fax (202) 205-1271, e-mail: jmelonas@fs.fed.us.

Individuals who use telecommunication devices for the deaf (TDD) may call the Federal Information Relay Service (FIRS) at 1-800-877-8339 between 8 a.m. and 8 p.m., Eastern Standard Time, Monday through Friday.

SUPPLEMENTARY INFORMATION:

Background

Pursuant to the Federal Advisory Committee Act (5 U.S.C. App. II), notice is hereby given that the Secretary of Agriculture intends to establish the charter of the Forest Resource Coordinating Committee (Committee). The purpose of the Committee is to provide direction and coordination of actions within the Department of Agriculture, and coordination with State agencies and the private sector, to effectively address the national priorities for private forest conservation, with specific focus on owners of non-industrial private forest land as described in Section 8005 of the Food, Conservation, and Energy Act of 2008 (Pub. L. 110-246):

1. Conserving and managing working forest landscapes for multiple values and uses;

2. Protecting forests from threats, including catastrophic wildfires, hurricanes, tornadoes, windstorms, snow or ice storms, flooding, drought, invasive species, insect or disease outbreak, or development, and restoring appropriate forest types in response to such threats; and

3. Enhancing public benefits from private forests, including air and water quality, soil conservation, biological diversity, carbon storage, forest products, forestry-related jobs, production of renewable energy, wildlife, wildlife corridors and wildlife habitat, and recreation.

The Committee is being established in accordance with Section 8005 of the Food, Conservation, and Energy Act of 2008 (Pub. L. 110-246). The Secretary has determined that the work of the Committee is in the public interest and relevant to the duties of the Department of Agriculture.

The Committee will meet on an annual basis and its primary duties will include:

1. Provide direction and coordination of actions within the Department of Agriculture, and coordination with State agencies and private sector, to effectively address the national priorities, with specific focus on non-industrial private forest land;

2. Clarify individual responsibilities of each agency represented on the Committee concerning the national priorities with specific focus on non-industrial private forest land;

3. Provide advice on the allocation of funds, including the competitive funds set-aside for Competitive Allocation of Funds Innovation Projects (Sections 8007 and 8008 of the Food, Conservation, and Energy Act of 2008 (Pub L. 110-246)); and

4. Assist the Secretary in developing and reviewing the report to Congress required by Section 8001(d) of the Food, Conservation, and Energy Act of 2008 (Pub. L. 110-246).

Advisory Committee Organization

The Committee structure agreed to by the Secretary follows:

(a) Chief of the Forest Service;

(b) Chief of the Natural Resources Conservation Service;

(c) Administrator of the Farm Service Agency;

(d) Director of the National Institute of Food and Agriculture;

(e) Three State foresters or equivalent State officials from geographically diverse regions of the United States;

(f) A representative of a State fish and wildlife agency;

(g) A representative from the Department of Interior; and

(h) A representative from the Department of Defense.

Vacancies

Representatives below will be appointed by the Secretary to 3-year terms, although initial appointments shall have staggered terms. Vacancies will be filled in the manner in which the original appointment was made. The representatives are as follows:

(a) An owner of non-industrial private forest land;

(b) A forest industry representative;

(c) A conservation organization representative;

(d) A land-grant university or college representative;

(e) A private forestry consultant;

(f) A representative from a State Technical Committee;

(g) A representative of an Indian Tribe; and

(h) A representative from a Conservation District.

The Committee Chair will be the Chief of the Forest Service, in accordance with Section 8005 of the Food, Conservation, and Energy Act of 2008 (Pub. L. 110-246).

Nomination and Application Information for the Forest Resource Coordinating Committee

The appointment of members to the Committee will be made by the Secretary of Agriculture. Any individual or organization may nominate one or more qualified persons to represent the vacancies listed above to serve on the Forest Resource Coordinating Committee. To be considered for membership, nominees must:

1. Identify what vacancy they would represent and how they are qualified to represent that vacancy;

2. State why they want to serve on the committee and what they can contribute;

3. Show their past experience in working successfully as part of a coordinating group; and

4. Complete form AD-755, Advisory Committee Membership Background Information.

Letters of recommendation are welcome. Individuals may also nominate themselves. Form AD-755 may be obtained from Forest Service contact persons or from the following Web site: http://www.fsa.usda.gov/Internet/FSA_File/ad755.pdf. All nominations will be vetted by the Agency. The Secretary of Agriculture shall appoint committee members to the Forest Resource Coordinating Committee from list of qualified applicants. Applicants are strongly encouraged to submit nominations via overnight mail or delivery to ensure timely receipt by the USDA.

Non-Federal members of the Committee shall serve without pay, but will be reimbursed for reasonable costs incurred while performing duties on behalf of the Committee.

Equal opportunity practices, in line with USDA policies, will be followed in all appointments to the Committee. To ensure that the recommendation of the Committee has taken into account the needs of the diverse groups served by the Department, membership includes, to the extent practicable, individuals with demonstrated ability to represent minorities, women, persons with disabilities, and senior citizens.

Dated: December 15, 2008.
Boyd K Rutherford,
Assistant Secretary for Administration.

[FR Doc. E8-30353 Filed 12-19-08; 8:45 am]

BILLING CODE 3410-11-P